DEPARTMENT OF HOMELAND SECURITY

Coast Guard

33 CFR Part 165

[Docket No. USCG-2023-0271]

Safety Zone; Menominee River, Marinette, WI

AGENCY: Coast Guard, Department of Homeland Security (DHS).

ACTION: Notification of enforcement of regulation.

SUMMARY: The Coast Guard will enforce the safety zone on the Menominee River in Marinette, WI, on April 15, 2023, from 7:30 a.m. to 2:00 p.m. This action is necessary and intended to protect the safety of life and property on navigable waterways before, during and after the launch of a naval vessel from Marinette Marine on the Menominee River in Marinette, WI. During the enforcement period, the Coast Guard will enforce restrictions upon, and control movement of, vessels in the safety zone. No person or vessel may enter, transit, or anchor within the safety zone while it is being enforced unless authorized by the Captain of the Port Lake Michigan or a designated representative.

DATES: The regulations in row (3) of Table 4 to 33 CFR 165.929 will be enforced from 7:30 a.m. through 2:00 p.m. on April 15, 2023.

FOR FURTHER INFORMATION CONTACT: If you have questions on this document, call or email Chief Petty Officer Jeromy Sherrill, Sector Lake Michigan Waterways Management Division, U.S. Coast Guard; telephone 414-747-7148, email Jeromy.N.Sherrill@uscg.mil.

SUPPLEMENTARY INFORMATION: The Coast Guard will enforce the Safety Zone; Annual Events Requiring Safety Zones in the Captain of the Port Lake Michigan Zone listed in 33 CFR 165.929, Table 4, row (3) for the operations at Marinette Marine on April 15, 2023, from 7:30 a.m. to 2:00 p.m. This action is being taken to protect the safety of life and property on navigable waterways of the Menominee River, WI, for the launching of a naval vessel. The safety zone will encompass all waters of the Menominee River in the vicinity of Marinette Marine Corporation, from the U.S. HWY 41 Bridge to the Ogden Street Bridge.

Pursuant to 33 CFR 165.23 and 165.929, entry into, transiting, or anchoring within the safety zone during an enforcement period is prohibited unless authorized by the Captain of the Port Lake Michigan or a designated representative. Those seeking permission to enter the safety zone may request permission from the Captain of Port Lake Michigan via channel 16, VHF-FM. Vessels and persons granted permission to enter the safety zone shall obey the directions of the Captain of the Port Lake Michigan or a designated representative.

This notification of enforcement is issued under authority of 33 CFR 165.929 and 5 U.S.C. 552(a). In addition to this notification of enforcement in the Federal Register, the Coast Guard will provide the maritime community with advance notification of this enforcement period via Broadcast Notice to Mariners or Local Notice to Mariners. If the Captain of the Port Lake Michigan determines that the safety zone need not be enforced for the full duration stated in this notification, permission to enter the safety zone may be granted using a Broadcast Notice to Mariners.

The Captain of the Port Lake Michigan or a designated representative will inform the public through a Broadcast Notice to Mariners of any changes in the planned schedule. The Captain of the Port Lake Michigan or a representative may be contacted via Channel 16, VHF-FM or at (414) 747-7182.

Dated: March 31, 2023.
Doreen Mccarthy,
Commander, U.S. Coast Guard, Acting Captain of the Port Lake Michigan.

[FR Doc. 2023-07444 Filed 4-7-23; 8:45 am]

BILLING CODE 9110-04-P